DEPARTMENT OF TRANSPORTATION

Federal Aviation Administration

14 CFR Part 73

[Docket No. FAA-2015-3680; Airspace Docket No. 13-ASW-15]

RIN 2120-AA66

Establishment of and Modification to Restricted Areas; Fort Sill, OK

AGENCY: Federal Aviation Administration (FAA), DOT.

ACTION: Final rule.

SUMMARY: This action establishes 2 new restricted areas (R-5601G and R-5601H) to the special use airspace (SUA) complex located at Fort Sill, OK, to provide additional maneuvering airspace for current and planned hazardous training activities. Specifically, the restricted areas provide participating fighter and bomber aircraft with non-eye safe laser firing and maneuvering airspace when training at the Falcon Bombing Range contained in R-5601C, the West Range Target Area contained in R-5601B, or the East Range Target Area contained in R-5601A. Additionally, the using agency information for all Fort Sill restricted areas is updated for standardization and to reflect the current organization. This action also updates a number of geographic coordinates for R-5601A-E, G, and H as a result of more accurate digital charting capabilities, updates the arc radius distance in R-5601B and R-5601H from statute miles to nautical miles (NM), and corrects the controlling agency information for R-5601H. This action ensures realistic U.S. Army training on current tactics for employing hazardous targeting laser systems and weapons capabilities at longer ranges from the target area.

DATES: Effective date 0901 UTC, March 2, 2017.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it restructures the restricted airspace at Fort Sill, OK, enhancing safety and accommodating essential military training.

History

On October 19, 2015, the FAA published in the Federal Register a notice of proposed rulemaking (NPRM) (80 FR 63153), Docket No. FAA-2015-3680, to establish two restricted areas and amend using agency information for six other restricted areas designated to support hazardous training activities conducted within the Fort Sill, OK, special use airspace (SUA) complex. Interested parties were invited to participate in this rulemaking effort by submitting written comments on the proposal. One comment from the Aircraft Owners and Pilots Association (AOPA) was received.

Discussion of Comments

In their response to the NPRM, AOPA raised several substantive issues. AOPA contended the proposed airspace design would have a negative impact on general aviation aircraft and offered the following recommendations to mitigate the negative effects: consider other types of SUA before establishing additional restricted areas; change the ceiling of R-5601G so it aligns with the Minimum Enroute Altitude (MEA) of V-436; if unable to change the ceiling altitude, update the enroute charts to show V-436 penetrates R-5601G; reduce the northern boundary of V-436 to provide additional lateral spacing from V-436; and synchronize the effective date of any new restricted areas to coincide with sectional chart dates.

Having considered the issues and recommendations provided by AOPA, the FAA offers the following responses.

Consider Other Types of Special Use Airspace (SUA) Before Enacting a Restricted Area

The purpose of a restricted area is to confine or segregate activities considered hazardous to nonparticipating aircraft. The FAA recognizes that R-5601G and H, when activated, would restrict access by non-participating aircraft. As noted in the NPRM, the U.S. Army requested this action to allow realistic training on current tactics developed and refined during recent combat operation for employing hazardous (non-eye safe) combat targeting laser systems and weapons capabilities at longer ranges from the target area. It was also noted that there was no alternative SUA complex within 200 NM where combat lasers could be employed that would support this aircrew training requirement. Therefore, the FAA has determined restricted area airspace is the appropriate SUA solution for conducting the hazardous activities associated with the U.S. Army's training requirement.

Reduce the Maximum Altitude of R-5601 To Align With the Minimum Enroute Altitude of VHF Omnidirectional Range (VOR) Federal Airway V-436

This recommendation would drop the ceiling of R-5601G from “to but not including 8,000 feet MSL” to 5,400 feet MSL. Such a lowered ceiling would prevent laser employment at ranges beyond 10 miles due to graze angle restrictions and result in loss of the increased standoff ranges proposed for realistic aircrew combat training. Additionally, the western portion of R-5601G overlies the Wichita Mountains National Wildlife Refuge. As mitigation to adverse effects when R-5601F was established in 2007, the Army agreed to restrict flights below 5,500 feet MSL over the Wildlife Refuge. Observing this local flight restriction to not overfly the Wildlife Refuge below 5,500 feet MSL and AOPA's recommended restricted area ceiling of 5,400 feet MSL would actually result in no available restricted area airspace over the Wichita Mountains National Wildlife Refuge and compression of the remaining portions of R-5601G to the point that the restricted area would not meet the military's training requirements any longer. The FAA does not support lowering the R-5601G ceiling as recommended.

The R-5601G boundaries description information in the regulatory text is being amended to reflect the U.S. Army's local flight restriction to not overfly the Wichita Mountains National Wildlife Refuge below 5,500 feet MSL and match the corresponding flight restriction documented in the R-5601F legal description and on the applicable aeronautical charts.

If Unable To Reduce the Ceiling of R-5601G, Update the Enroute Charts To Show V-436 Penetrates an Established Restricted Area

It is common practice for the FAA to depict Air Traffic Service (ATS) Routes and SUA areas on IFR and VFR aeronautical charts in accordance with established charting standards. Additionally, SUA times are published in a tab on the associated IFR and VFR charts to identify the SUA times of use. As such, V-436 will be charted on the IFR enroute charts, depicting it running through R-5601G and the R-5601 times of use will be published on the associated charts.

Truncate the Northern Boundary of R-5601G To Preserve V-436 Through Lateral Separation

The FAA acknowledges that amending the proposed R-5601G northern boundary to provide a 4 NM buffer from the V-436 centerline would allow unimpeded use of the airway when the restricted area is active. However, this recommendation reduces the north-south lateral dimension of R-5601G by approximately 7 NM at its northeast corner. One of the stated purposes of this action, as noted in the NPRM, was to allow realistic training on current tactics developed during recent combat operation for employing hazardous targeting laser systems and weapons capabilities at longer ranges from the target area. Modern rangefinder and laser designators can be employed at ranges out to 25 NM. As proposed, the distance from the target arrays in R-5601C (Falcon Range) to the northeast corner of R-5601G is approximately 22 NM and the distance from the targets in R-5601B to the proposed northeast corner is approximately 17 NM. Amending the R-5601G northern boundary as recommended by AOPA would reduce these distances to 17 NM and 12 NM, respectively. As such, the FAA does not support this recommendation since the reduced distances to the target areas would be inadequate for the military to conduct realistic training on current tactics employing targeting laser systems and weapons systems at longer ranges.

Synchronize the Effective Date of Any New Restricted Areas To Coincide With Sectional Chart Dates

The FAA normally makes regulatory airspace actions, including restricted areas, effective on a 56-day enroute chart date; however, consideration is given to selecting a sectional aeronautical chart date when deemed appropriate based on the potential aeronautical impacts associated with the airspace action being taken. This action is being made effective on a sectional chart date that matches the 56-day enroute chart dates.

Differences From the NPRM

Subsequent to publication of the NPRM, the FAA identified a number of geographic lat./long. coordinate updates to the R-5601A-E, G, and H boundaries information to more accurately reflect the existing boundaries using digital charting capabilities. Additionally, the arc radius distance listed in the R-5601B and R-5601H descriptions was determined to be described using statute miles and is being updated to reflect the corresponding nautical mile distance. Finally, the R-5601H controlling agency title proposed in the NPRM did not match the controlling agency title for the other R-5601 complex restricted areas and is being updated to match. The using agency, controlling agency, and boundaries updates are administrative in nature and do not affect the overall restricted area boundaries; designated altitudes; times of designation; or activities conducted within those restricted areas. The following restricted area updates are incorporated in this action.

The geographical lat./long. coordinates for the points located on Interstate Highway 44 (I-44) listed in the R-5601A and R-5601B descriptions, and a corresponding point listed in the R-5601H description, are actually located west of I-44. The geographical coordinates are updated to accurately reflect the points on I-44.

The 3-mile arc radius distance listed in the existing R-5601B and proposed R-5601H descriptions is not clear that it is defined in reference to statute miles. The 3-mile [statute miles] arc radius is updated to reflect it as 2.6 NM to retain the boundary, unchanged, and comply with FAA Order JO 7400.2, Procedures for Handling Airspace Matters, guidance.

The geographical lat./long. coordinates listed for the eastern-most point located on the 2.6 NM arc radius (formerly 3-mile arc radius as noted above) in the existing R-5601B and proposed R-5601H descriptions is actually located north of the arc. The geographical coordinates are updated to accurately reflect the point on the 2.6 NM arc.

The geographical lat./long. coordinates listed for the northern boundary point located on Oklahoma State Highway No. 115 in the R-5601B and R-5601C descriptions, and the corresponding point listed in the R-5601D description, is actually located east of the highway. The geographical coordinates are updated to accurately reflect the point on Oklahoma State Highway No. 115.

The geographical lat./long. coordinates for one point listed in the R-5601E description does not match the geographical coordinates for the corresponding point listed in the R-5601B and R-5601C descriptions. The geographical coordinates for the point are updated to match the information published in the R-5601B and R-5601C descriptions.

The geographical lat./long. coordinates for the first point listed in the R-5601G description does not create a shared boundary with R-5601F and results in a gap between the two restricted areas. The geographical lat./long. coordinates for the point are updated to ensure a shared R-5601F and R-5601G boundary.

The controlling agency information listed in the R-5601H description does not match the controlling agency information verbatim in all the other R-5601 restricted areas. The controlling agency information is updated to standardize the information in all R-5601 restricted areas.

The Rule

The FAA is amending 14 CFR part 73 to establish 2 new restricted areas (R-5601G and R-5601H) at Fort Sill, OK, and update the using agency information listed for the existing restricted areas (R-5601A-F) as noted in the NPRM. The FAA is also incorporating the restricted area updates noted in the Differences from the NPRM section. The FAA is taking this action to ensure containment of the hazardous activities associated with aircrew training missions that are incorporating non-eye safe targeting laser employment and weapons delivery tactics used by the military today, at increased distances from the target range, within restricted area airspace. The amendments are as follows:

R-5601A: The geographic coordinates “lat. 34°40′47″ N., long. 98°23′09″ W.,” in the boundaries description are changed to “lat. 34°40′47″ N., long. 98°23′07″ W.,” and the geographic coordinates “lat. 34°43′30″ N., long. 98°24′01″ W.,” are changed to “lat. 34°43′30″ N., long. 98°23′59″ W.,” to coincide with I-44.

R-5601B: The geographic coordinates “lat. 34°40′47″ N., long. 98°23′09″ W.,” in the boundaries description are changed to “lat. 34°40′47″ N., long. 98°23′07″ W.,” and the geographic coordinates “lat. 34°43′30″ N., long. 98°24′01″ W.,” are changed to “lat. 34°43′30″ N., long. 98°23′59″ W.,” to coincide with I-44. Additionally, the geographic coordinates “lat. 34°40′54″ N., long. 98°37′54″ W.,” are changed to “lat. 34°40′54″ N., long. 98°37′56″ W.,” to coincide with Oklahoma State Highway No. 115. Lastly, the arc radius “3-mile″ is changed to “2.6 NM” to retain the existing boundary defined in terms of NM and the geographic coordinates “lat. 34°40′12″ N., long. 98°26′18″ W.,” are changed to “lat. 34°40′11″ N., long. 98°26′18″ W.,” to coincide with the 2.6 NM arc radius.

R-5601C: The geographic coordinates “lat. 34°40′54″ N., long. 98°37′54″ W.,” in the boundaries description are changed to “lat. 34°40′54″ N., long. 98°37′156″ W.,” to coincide with Oklahoma State Highway No. 115.

R-5601D: The geographic coordinates “lat. 34°40′54″ N., long. 98°37′54″ W.,” in the boundaries description are changed to “lat. 34°40′54″ N., long. 98°37′56″ W.,” to coincide with Oklahoma State Highway No. 115.

R-5601E: The geographic coordinates “lat. 34°38′15″ N., long. 98°37′58″ W.,” in the boundaries description are changed to “lat. 34°38′15″ N., long. 98°37′57″ W.,” to match the corresponding point in R-5601B and R-5601C.

R-5601G: Establish R-5601G to abut the northern boundary of R-5601F, to the north, underlying the Washita MOA. The new restricted area extends upward from 500 feet above ground level (AGL) to, but not including 8,000 feet MSL; excluding the airspace below 5,500 feet MSL over the Wichita Mountains National Wildlife Refuge, as noted in the Discussion of Comments section. R-5601G extends laterally across approximately three quarters of the restricted area complex, west to east, and northward between 5 NM to 11 NM along the northern boundary of R-5601F. Additionally, the geographic coordinates “lat. 34°46′07″ N., long. 98°25′50″ W.,” in the proposed boundaries description are changed to “lat. 34°46′03″ N., long. 98°25′50″ W.,” to ensure a shared boundary with R-5601F. Lastly, the controlling agency “FAA, Fort Worth Center” is changed to “FAA, Fort Worth ARTCC.”

R-5601H: Establish R-5601H to fill a small airspace area over Fort Sill Army Post, OK, surrounded by two continuously active restricted areas (R-5601A and R-5601B). The new restricted area extends upward from the surface to FL400. Additionally, the geographic coordinates “lat. 34°40′47″ N., long. 98°23′09″ W.,” in the proposed boundaries description are changed to “lat. 34°40′47″ N., long. 98°23′07″ W.,” to match the corresponding point in R-5601A. Lastly, the arc radius “3-mile″ is changed to “2.6 NM” to retain the existing boundary defined in terms of NM and the geographic coordinates “lat. 34°40′12″ N., long. 98°26′18″ W.,” are changed to “lat. 34°40′11″ N., long. 98°26′18″ W.,” to coincide with the 2.6 NM arc radius.

The two new restricted areas allow participating aircraft to maneuver within the current Fort Sill Approach Control Airspace and contain the hazardous combat laser energy within restricted airspace. As noted in the NPRM, R-5601G will be used for aircraft maneuvering and combat laser targeting employment and R-5601H will be used for aircraft conducting Close Air Support (CAS) training. There are no changes to the existing pattern of firing, ordnance delivery runs, or weapons impact areas and all weapons release continue to occur in R-5601A, R-5601B, or R-5601C, as they are now. Further, no supersonic flight will occur.

This action also changes the using agency information “U.S. Army, Commanding General, Fort Sill, OK,” listed for R-5601A-E to “U.S. Army, Commanding General, U.S. Army Fires Center of Excellence (USAFCOE) and Fort Sill, Fort Sill, OK” and the using agency “Commanding General, United States Army Field Artillery Center (USAFACFS), Fort Sill, OK,” listed for R-5601F is changed to “U.S. Army, Commanding General, U.S. Army Fires Center of Excellence (USAFCOE) and Fort Sill, Fort Sill, OK.” These changes reflect the current organizational responsibilities and match the using agency information published in R-5601G and R-5601H.

The boundaries, designated altitudes, times of designation, and controlling agency information for restricted areas R-5601A-F are not changed by this action.

Regulatory Notices and Analyses

The FAA has determined that this regulation only involves an established body of technical regulations for which frequent and routine amendments are necessary to keep them operationally current. It, therefore: (1) Is not a “significant regulatory action″under Executive Order 12866; (2) is not a “significant rule″under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

In accordance with FAA Order 1050.1F, paragraphs 6-3.c and 8-2, the FAA has conducted an independent evaluation of the U.S. Army's Final Environmental Assessment (EA) for the Creation of Restricted Areas (RAs) R-5601G and R-5601H. The FAA determined that no significant impacts would occur as a result of the Federal action and therefore, preparation of an Environmental Impact Statement is not warranted and a Finding of No Significant Impact in accordance with 40 CFR 1501.4(e) is appropriate. Subsequently, and in accordance with 40 CFR 1506.3, the FAA adopted the U.S. Army's final EA and prepared a Finding of No Significant Impact/Record of Decision dated November 7, 2016.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C.106 (f), 106(g); 40103, 40113, 40120; E.O. 10854, 24 FR 9565, 3 CFR, 1959-1963 Comp., p. 389.

§ 73.56 [Amended]

2. Section 73.56 is amended as follows:

R-5601A Fort Sill, OK [Amended]

By removing the current boundaries and using agency information and substituting the following:

Boundaries. Beginning at lat. 34°38′15″ N., long. 98°17′01″ W.; to lat. 34°38′15″ N., long. 98°20′56″ W.; to lat. 34°38′30″ N., long. 98°21′41″ W.; to lat. 34°38′50″ N., long. 98°22′06″ W.; to lat. 34°39′53″ N., long. 98°22′16″ W.; to lat. 34°40′47″ N., long. 98°23′07″ W.; thence north along the western edge of Interstate Highway 44 to lat. 34°43′30″ N., long. 98°23′59″ W.; to lat. 34°43′30″ N., long. 98°21′21″ W.; to lat. 34°43′45″ N., long. 98°21′01″ W.; to lat. 34°46′06″ N., long. 98°21′01″ W.; to lat. 34°46′06″ N., long. 98°17′01″ W.; to the point of beginning.

Using agency. U.S. Army, Commanding General, U.S. Army Fires Center of Excellence (USAFCOE) and Fort Sill, Fort Sill, OK.

R-5601B Fort Sill, OK [Amended]

By removing the current boundaries and using agency information and substituting the following:

Boundaries. Beginning at lat. 34°40′47″ N., long. 98°23′07″ W.; thence counterclockwise along an arc, 2.6 NM radius centered at lat. 34°38′18″ N., long. 98°24′07″ W.; to lat. 34°40′11″ N., long. 98°26′18″ W.; to lat. 34°38′15″ N., long. 98°26′19″ W.; to lat. 34°38′15″ N., long. 98°37′57″ W.; thence north along Oklahoma State Highway No. 115 to lat. 34°40′54″ N., long. 98°37′56″ W.; to lat. 34°42′07″ N., long. 98°37′20″ W.; to lat. 34°43′21″ N., long. 98°36′02″ W.; to lat. 34°43′30″ N., long. 98°35′40″ W.; to lat. 34°43′30″ N., long. 98°23′59″ W.; thence south along the western edge of Interstate Highway 44 to the point of beginning.

Using agency. U.S. Army, Commanding General, U.S. Army Fires Center of Excellence (USAFCOE) and Fort Sill, Fort Sill, OK.

R-5601C Fort Sill, OK [Amended]

By removing the current boundaries and using agency information and substituting the following:

Boundaries. Beginning at lat. 34°38′15″ N., long. 98°37′57″ W.; to lat. 34°38′15″ N., long. 98°45′21″ W.; to lat. 34°41′47″ N., long. 98°45′21″ W.; to lat. 34°41′47″ N., long. 98°44′17″ W.; to lat. 34°41′21″ N., long. 98°44′17″ W.; to lat. 34°41′21″ N., long. 98°40′36″ W.; to lat. 34°40′54″ N., long. 98°40′36″ W.; to lat. 34°40′54″ N., long. 98°37′56″ W.; thence south along Oklahoma State Highway No. 115 to the point of beginning.

Using agency. U.S. Army, Commanding General, U.S. Army Fires Center of Excellence (USAFCOE) and Fort Sill, Fort Sill, OK.

R-5601D Fort Sill, OK [Amended]

By removing the current boundaries and using agency information and substituting the following:

Boundaries. Beginning at lat. 34°38′15″ N., long. 98°45′21″ W.; to lat. 34°38′15″ N., long. 98°48′01″ W.; to lat. 34°42′15″ N., long. 98°50′01″ W.; to lat. 34°45′00″ N., long. 98°40′31″ W.; to lat. 34°43′30″ N., long. 98°35′40″ W.; to lat. 34°43′21″ N., long. 98°36′02″ W.; to lat. 34°42′07″ N., long. 98°37′20″ W.; to lat. 34°40′54″ N., long. 98°37′56″ W.; to lat. 34°40′54″ N., long. 98°40′36″ W.; to lat. 34°41′21″ N., long. 98°40′36″ W.; to lat. 34°41′21″ N., long. 98°44′17″ W.; to lat. 34°41′47″ N., long. 98°44′17″ W.; to lat. 34°41′47″ N., long. 98°45′21″ W.; to the point of beginning.

Using agency. U.S. Army, Commanding General, U.S. Army Fires Center of Excellence (USAFCOE) and Fort Sill, Fort Sill, OK.

R-5601E Fort Sill, OK [Amended]

By removing the current boundaries and using agency information and substituting the following:

Boundaries. Beginning at lat. 34°38′15″ N., long. 98°37′57″ W.; to lat. 34°36′00″ N., long. 98°46′46″ W.; to lat. 34°38′15″ N., long. 98°48′01″ W.; to lat. 34°38′15″ N., long. 98°45′21″ W.; to the point of beginning.

Using agency. U.S. Army, Commanding General, U.S. Army Fires Center of Excellence (USAFCOE) and Fort Sill, Fort Sill, OK.

R-5601F Fort Sill, OK [Amended]

By removing the current using agency and substituting the following:

Using agency. U.S. Army, Commanding General, U.S. Army Fires Center of Excellence (USAFCOE) and Fort Sill, Fort Sill, OK.

R-5601G Fort Sill, OK [New]

Boundaries. Beginning at lat. 34°46′03″ N., long. 98°25′50″ W.; to lat. 34°45′03″ N., long. 98°29′46″ W.; thence counterclockwise via the 46 NM arc of SPS VORTAC to lat. 34°43′46″ N., long. 98°49′55″ W.; to lat. 34°47′00″ N., long. 98°51′00″ W.; to lat. 34°50′30″ N., long. 98°46′02″ W.; to lat. 34°57′51″ N., long. 98°25′47″ W.; to the point of beginning. Excluding that airspace below 5,500 feet MSL over the Wichita Mountains National Wildlife Refuge.

Designated altitudes. 500 feet AGL to, but not including, 8,000 feet MSL.

Time of designation. Sunrise to 2200 local time, Monday-Friday; other times by NOTAM.

Controlling agency. FAA, Fort Worth ARTCC.

Using agency. U.S. Army, Commanding General, U.S. Army Fires Center of Excellence (USAFCOE) and Fort Sill, Fort Sill, OK.

R-5601H Fort Sill, OK [New]

Boundaries. Beginning at lat. 34°38′15″ N., long. 98°20′56″ W.; to lat. 34°38′30″ N., long. 98°21′41″ W.; to lat. 34°38′50″ N., long. 98°22′06″ W.; to lat. 34°39′53″ N., long. 98°22′16″ W.; to lat. 34°40′47″ N., long. 98°23′07″ W.; thence counterclockwise along an arc, 2.6 NM radius centered at lat. 34°38′18″ N., long. 98°24′07″ W.; to lat. 34°40′11″ N., long. 98°26′18″ W.; to lat. 34°38′15″ N., long. 98°26′19″ W.; to the point of beginning.

Designated altitudes. Surface to FL 400.

Time of designation. By NOTAM.

Controlling agency. FAA, Fort Worth ARTCC.

Using agency. U.S. Army, Commanding General, U.S. Army Fires Center of Excellence (USAFCOE) and Fort Sill, Fort Sill, OK.

Issued in Washington, DC, on November 8, 2016.
Leslie M. Swann,
Acting Manager, Airspace Policy Group.

[FR Doc. 2016-27441 Filed 11-14-16; 8:45 am]

BILLING CODE 4910-13-P